DEPARTMENT OF HEALTH AND HUMAN SERVICES

Centers for Medicare & Medicaid Services

[Document Identifier: CMS-10398 #86]

Medicaid and Children's Health Insurance Program (CHIP) Generic Information Collection Activities: Proposed Collection; Comment Request

AGENCY: Centers for Medicare & Medicaid Services, Health and Human Services (HHS).

ACTION: Notice.

SUMMARY: On May 28, 2010, the Office of Management and Budget (OMB) issued Paperwork Reduction Act (PRA) guidance related to the “generic” clearance process. Generally, this is an expedited process by which agencies may obtain OMB's approval of collection of information requests that are “usually voluntary, low-burden, and uncontroversial collections,” do not raise any substantive or policy issues, and do not require policy or methodological review. The process requires the submission of an overarching plan that defines the scope of the individual collections that would fall under its umbrella. This Federal Register notice seeks public comment on one or more of our collection of information requests that we believe are generic and fall within the scope of the umbrella. Interested persons are invited to submit comments regarding our burden estimates or any other aspect of this collection of information, including: the necessity and utility of the proposed information collection for the proper performance of the agency's functions, the accuracy of the estimated burden, ways to enhance the quality, utility and clarity of the information to be collected, and the use of automated collection techniques or other forms of information technology to minimize the information collection burden.

DATES: Comments must be received by November 15, 2024.

ADDRESSES: When commenting, please reference the applicable form number (CMS-10398 #86) and the OMB control number (0938-1148). To be assured consideration, comments and recommendations must be submitted in any one of the following ways:

1. Electronically. You may send your comments electronically to http://www.regulations.gov. Follow the instructions for “Comment or Submission” or “More Search Options” to find the information collection document(s) that are accepting comments.

2. By regular mail. You may mail written comments to the following address:

CMS, Office of Strategic Operations and Regulatory Affairs, Division of Regulations Development, Attention: CMS-10398 #86/OMB control number: 0938-1148, Room C4-26-05, 7500 Security Boulevard, Baltimore, Maryland 21244-1850.

To obtain copies of a supporting statement and any related forms for the proposed collection(s) summarized in this notice, please access the CMS PRA website by copying and pasting the following web address into your web browser: https://www.cms.gov/medicare/regulations-guidance/legislation/paperwork-reduction-act-1995/pra-listing.

FOR FURTHER INFORMATION CONTACT: William N. Parham at 410-786-4669.

SUPPLEMENTARY INFORMATION:

Following is a summary of the use and burden associated with the subject information collection(s). More detailed information can be found in the collection's supporting statement and associated materials (see ADDRESSES).

Generic Information Collection

1. Title of Information Collection: Section 1115 Reentry Demonstration Initiative; Type of Information Collection Request: New information collection request; Use: On April 17, 2023, CMS released a State Medicaid Directors Letter (SMDL #23-003) announcing a demonstration opportunity to support community reentry and improve care transitions for individuals who are incarcerated and who are otherwise eligible for Medicaid to receive medical assistance under title XIX. The Section 1115 Reentry Demonstration Opportunity (hereinafter, “the Reentry Demonstration Initiative”) will allow states to offer coverage for certain pre-release services for up to 90 days prior to the individual's expected release date that could not otherwise be covered by Medicaid due to the Medicaid inmate exclusion policy. The provision is consistent with section 5032 of the Substance Use Disorder Prevention that Promotes Opioid Recovery and Treatment for Patients and Communities Act (SUPPORT Act) (Pub. L. 115-271), “Promoting State Innovations to Ease Transitions Integration to the Community for Certain Individuals.”

States applying for the Reentry Demonstration Initiative must provide a minimum set of pre-release services called the “pre-release benefit package.” The benefit package aims to improve transitions for individuals being released from jails or prisons and returning to their communities. The benefit package must include: (1) case management to assess and address physical and behavioral health needs and health-related social needs; and (2) medication-assisted treatment services for all types of substance use disorders as clinically appropriate, with accompanying counseling. Also required in the minimum set of services is a 30-day supply of all prescription medications that have been prescribed for the beneficiary.

This collection of information request includes three templates that are intended to expedite CMS's review of reentry demonstration initiative applications and to support state implementation planning and related transparency by standardizing the presentation of key information necessary for approvals, thereby reducing rounds of clarifying questions with state applicants. The three templates include the: (1) reentry demonstration initiative preprint, (2) reentry implementation plan template, and (3) reentry budget neutrality formulation workbook. The templates are strongly encouraged but optional and described in the following section.

Form Number: CMS-10398 #86 (OMB control number: 0938-1148); Frequency: Annual and on occasion; Affected Public: State, Local, or Tribal Governments; Number of Respondents: 10; Total Annual Responses: 30; Total Annual Hours: 300. (For policy questions regarding this collection contact: Raven Smith at 410-786-3731.)

William N. Parham III,
Director, Division of Information Collections and Regulatory Impacts, Office of Strategic Operations and Regulatory Affairs.

[FR Doc. 2024-25503 Filed 10-31-24; 8:45 am]

BILLING CODE 4120-01-P